DEPARTMENT OF COMMERCE

International Trade Administration

[C-570-953]

Narrow Woven Ribbons With Woven Selvedge From the People's Republic of China: Notice of Court Decision Not in Harmony With Final Results of the 2016 Countervailing Duty Administrative Review; Notice of Amended Final Results

AGENCY: Enforcement and Compliance, International Trade Administration, Department of Commerce.

SUMMARY: On December 8, 2022, the U.S. Court of International Trade (CIT) issued its final judgment in Yama Ribbons and Bows Co., v. United States, Court No. 19-00047, sustaining the Department of Commerce's (Commerce's) remand results pertaining to the 2016 administrative review of the countervailing duty (CVD) order on narrow woven ribbons with woven selvedge (ribbons) from the People's Republic of China (China). Commerce is notifying the public that the CIT's final judgment is not in harmony with Commerce's final results of the administrative review, and that Commerce is amending the final results with respect to the countervailable subsidy rate assigned to Yama Ribbons and Bows Co. (Yama).

DATES: Applicable December 18, 2022.

FOR FURTHER INFORMATION CONTACT: Terre Keaton Stefanova, AD/CVD Operations, Office II, Enforcement and Compliance, International Trade Administration, U.S. Department of Commerce, 1401 Constitution Avenue NW, Washington, DC 20230; telephone: (202) 482-1280.

SUPPLEMENTARY INFORMATION:

Background

On March 25, 2019, Commerce published its final results of the 2016 CVD administrative review of ribbons from China. ¹ In the Final Results, Commerce assigned Yama an overall subsidy rate of 23.70 percent based, in part, on adverse facts available (AFA).

¹ See Narrow Woven Ribbons with Woven Selvedge from the People's Republic of China: Final Results of Countervailing Duty Administrative Review; 2016, 84 FR 11052 (March 25, 2019) (Final Results).

Yama appealed Commerce's Final Results. On April 30, 2021, the CIT remanded to Commerce its Final Results findings that Yama used and benefited from the Export Buyer's Credit program (EBCP) and the Provision of Synthetic Yarn and Caustic Soda for Less-Than-Adequate Remuneration (LTAR) and its inclusion of these subsidies in the overall subsidy rate determined for Yama.²

² See Yama Ribbons and Bows Co., LTD. vs. United States, 517 F.Supp.3d 1325 (CIT 2021).

In its remand redetermination issued in August 2021, Commerce reconsidered its decision to apply AFA in evaluating use of the EBCP and determined, under respectful protest, that the EBCP was not used by Yama during the period of review (POR). Commerce also further considered the information on the record and supplemented the record regarding the synthetic yarn and caustic soda inputs for LTAR programs and addressed the “specificity” requirement in the statute for them. Upon further examination, Commerce found that: (1) the Provision of Synthetic Yarn and Caustic Soda for LTAR programs met the specificity requirement of the statute and, therefore, were countervailable subsidies; and (2) Yama benefited from these programs during the POR. Accordingly, Commerce calculated a revised subsidy rate for Yama of 13.16 percent.³ On December 8, 2022, the CIT sustained Commerce's final redetermination.⁴

³ See Final Results of Redetermination Pursuant to Court Remand, Consol. Ct. No. 19-00047, Slip Op. 21-50 (August 13, 2021) (Remand Results).

⁴ See Yama Ribbons and Bows Co., Ltd. vs. United States, Consol. Court No 19-00047, Slip Op. 22-138 (CIT December 8, 2022).

Timken Notice

In its decision in Timken,⁵ as clarified by Diamond Sawblades,⁶ the Court of Appeals for the Federal Circuit held that, pursuant to section 516A(c) and (e) of the Tariff Act of 1930, as amended (the Act), Commerce must publish a notice of court decision that is not “in harmony” with a Commerce determination and must suspend liquidation of entries pending a “conclusive” court decision. The CIT's December 8, 2022, judgment constitutes a final decision of the CIT that is not in harmony with Commerce's Final Results. Thus, this notice is published in fulfillment of the publication requirements of Timken.

⁵ See Timken Co. v. United States, 893 F.2d 337 (Fed. Cir. 1990) (Timken).

⁶ See Diamond Sawblades Manufacturers Coalition v. United States, 626 F.3d 1374 (Fed. Cir. 2010) (Diamond Sawblades).

Amended Final Results

Because there is now a final court judgment, Commerce is amending its Final Results with respect to Yama as follows:

Company | Subsidy rate (%)
Yama Ribbons and Bows Co., Ltd | 13.16

Cash Deposit Requirements

Because Yama has a superseding cash deposit rate, i.e., there have been final results published in a subsequent administrative review, we will not issue revised cash deposit instructions to U.S. Customs and Border Protection (CBP). This notice will not affect the current cash deposit rate for Yama.

Liquidation of Suspended Entries

At this time, Commerce remains enjoined by CIT order from liquidating entries that were produced and exported by Yama and were entered, or withdrawn from warehouse, for consumption during the period January 1, 2016, through December 31, 2016. These entries will remain enjoined pursuant to the terms of the injunction during the pendency of any appeals process.

In the event the CIT's ruling is not appealed, or, if appealed, is upheld by a final and conclusive court decision, Commerce intends to instruct CBP to assess countervailing duties on unliquidated entries of subject merchandise produced and exported by Yama in accordance with 19 CFR 351.212(b). We will instruct CBP to assess countervailing duties on all appropriate entries covered by this review when the ad valorem rate is not zero or de minimis. Where an ad valorem subsidy rate is zero or de minimis,⁷ we will instruct CBP to liquidate the appropriate entries without regard to countervailing duties.

⁷ See 19 CFR 351.106(c)(2).

Notification to Interested Parties

This notice is issued and published in accordance with sections 516A(c) and (e) and 777(i)(1) of the Act.

Dated: December 12, 2022.
Lisa W. Wang,
Assistant Secretary for Enforcement and Compliance.

[FR Doc. 2022-27331 Filed 12-15-22; 8:45 am]

BILLING CODE 3510-DS-P